DEPARTMENT OF JUSTICE

Federal Bureau of Investigation

[OMB Number 1110-0035]

Criminal Justice Information Services Division; National Instant Criminal Background Check System Section; Agency Information Collection Activities: Existing Collection, Comments Requested

ACTION: 30-Day Notice of Information Collection Under Review: Approval of an existing collection; The National Instant Criminal Background Check System (NICS) State Point of Contact (POC) Final Determination Electronic Submission.

The Department of Justice (DOJ), Federal Bureau of Investigation (FBI), Criminal Justice Information Services (CJIS) Division's National Instant Criminal Background Check System (NICS) Section will be submitting the following information collection request to the Office of Management and Budget (OMB) for review and approval in accordance with the Paperwork Reduction Act of 1995. The proposed information collection is published to obtain comments from the public and affected agencies. This proposed information collection was previously published in the Federal Register, Volume 72, Number 208, Pages 61183-61184, on October 29, 2007, allowing for a 60-day comment period. The purpose of this notice is to allow for an additional 30 days for public comment until February 8, 2008. This process is conducted in accordance with Title 5, Code of Federal Regulations (CFR), section 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-7285.

Written comments and suggestions from the public and affected agencies concerning the proposed collection of information are encouraged. Your comments should address one or more of the following four points:

(1) Evaluate whether the proposed collection of information is necessary for the proper performance of the functions of the agency/component, including whether the information will have practical utility;

(2) Evaluate the accuracy of the agency's/component's estimate of the burden of the proposed collection of the information, including the validity of the methodology and assumptions used;

(3) Enhance the quality, utility, and clarity of the information to be collected; and

(4) Minimize the burden of the collection of information on those who are to respond, including the use of appropriate automated, electronic, mechanical, or other technological collection techniques or other forms of information technology, e.g., permitting electronic submission of responses.

Overview of This Information

(1) Type of Information Collection: Approval of an Existing Collection.

(2) Title of the Forms: The National Instant Criminal Background Check System (NICS) State Point of Contact (POC) Final Determination Electronic Submission.

(3) Agency Form Number, if any, and the applicable component of the department sponsoring the collection:

Form Number: 1110-0035.

Sponsor: Criminal Justice Information Services (CJIS) Division of the Federal Bureau of Investigation (FBI), Department of Justice (DOJ).

(4) Affected Public who will be asked or required to respond, as well as a brief abstract:

Primary: Full State Points of Contact (POC), Partial POCs, Alternate Permit State POCs.

Brief Abstract: This collection is requested of Full State Points of Contact (POCs), Partial POCs, and Alternate Permit State POCs. Per 28 Code of Federal Regulations, Section 25.6(h), POC States are required to transmit electronic determination messages to the Federal Bureau of Investigation (FBI) Criminal Justice Information Services Division's National Instant Criminal Background Check System (NICS) Section of the status of a firearm background check in those instances in which a transaction is “open” (transactions unresolved before the end of the operational day on which the transaction was initiated); “denied” transactions; transactions reported to the NICS as open and subsequently changed to proceed; and overturned denials. The State POC must communicate this response to the NICS immediately upon communicating their determination to the Federal Firearms Licensee or in those cases in which a response has not been communicated, no later than the end of the operational day in which the transaction was initiated. For those responses that are not received, the NICS will assume the transaction resulted in a “proceed.”

(5) An estimate of the total number of respondents and the amount of time estimated for an average respondent to respond: There are 21 State POCs and ten Alternate Permit State POCs who conduct an average of 4,312,811 transactions per year. It is estimated that 26 percent would be affected by this collection and would require electronic messages sent to the NICS. This translates to 1,121,331 transactions, which would be the total number of annual responses. The other 74 percent would not be reported in this collection. It will require one minute (60 seconds) for each POC State to transmit the information per transaction to the NICS. Thus, it is estimated that collectively all respondents will spend 18,689 hours yearly submitting determinations to the NICS. If the number of transactions were distributed evenly among the POC States, then 603 hours would be the estimated time for each of the 31 states to respond. Recordkeeping time is part of the routine business process and is not part of this calculation.

(6) An estimate of the total public burden (in hours) associated with the collection: The average yearly hour burden for submitting final determinations combined is: (4,312,811 total checks × 26 percent)/60 seconds = 18,689 hours.

If additional information is required, contact: Ms. Lynn Bryant, Department Clearance Officer, United States Department of Justice, Policy and Planning Staff, Justice Management Division, Suite 1600, Patrick Henry Building, 601 D Street, NW., Washington, DC 20530.

Dated: January 3, 2008.
Lynn Bryant,
Department Clearance Officer, PRA, United States Department of Justice.

[FR Doc. E8-138 Filed 1-8-08; 8:45 am]

BILLING CODE 4410-02-P